DEPARTMENT OF COMMERCE

International Trade Administration

[A-570-601]

Tapered Roller Bearings and Parts Thereof, Finished and Unfinished, From the People's Republic of China: Final Rescission of Antidumping Duty New Shipper Review; 2014-2015

AGENCY: Enforcement and Compliance, International Trade Administration, Department of Commerce

DATES: Effective February 17, 2016.

FOR FURTHER INFORMATION CONTACT: Elizabeth Eastwood, AD/CVD Operations, Office II, Enforcement and Compliance, International Trade Administration, U.S. Department of Commerce, 14th Street and Constitution Avenue NW., Washington, DC 20230; telephone: (202) 482-3874.

SUPPLEMENTARY INFORMATION:

Background

On December 22, 2015, the Department of Commerce (the Department) published the preliminary rescission of the new shipper review of the antidumping duty (AD) order on tapered roller bearings and parts thereof, finished and unfinished (TRBs), from the People's Republic of China (PRC) for Zhejiang Changxing CTL Auto Parts Manufacturing Co., Ltd. (Changxing).¹ We invited parties to comments on our Preliminary Rescission Notice; however, no interested party submitted comments. Therefore, we made no changes to our analysis for purposes of this final rescission, and we are rescinding the new shipper review of the AD order on TRBs from the PRC with respect to Changxing.

¹ See Tapered Roller Bearings and Parts Thereof, Finished and Unfinished, From the People's Republic of China: Preliminary Rescission of Antidumping Duty New Shipper Review; 2014-2015, 80 FR 79561 (December 22, 2015) (Preliminary Rescission Notice).

Scope of the Order

Imports covered by the order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the order is dispositive.

Rescission of Review

As discussed in the Preliminary Rescission Notice, Changxing failed to respond to the Department's request for additional information regarding possible entries of subject merchandise that predated the applicable period of review (POR).² In the absence of any comments on this issue, we continue to find on the basis of adverse facts available, pursuant to section 776(a) and (b) of the Tariff Act of 1930, as amended (the Act), that Changxing had additional entries of subject merchandise prior to the POR (June 1, 2014, through May 31, 2015) that were not reported to the Department at the time of Changxing's request for a new shipper review. Based on the foregoing, we find that Changxing does not meet the minimum requirements for a new shipper review under 19 CFR 351.214(b)(2)(iv)(C) in that Changxing's request did not contain documentation establishing the date of its first sale to an unaffiliated customer in the United States. Because we find that Changxing's request for a new shipper review did not satisfy the regulatory requirements for initiation of a new shipper review, we are rescinding the new shipper review of the AD order on TRBs from the PRC with respect to Changxing.

² Id., at 79561.

Assessment Rates

Because we are rescinding the new shipper review of Changxing, we are not making a determination as to whether Changxing qualifies for a separate rate. Therefore, Changxing remains part of the PRC entity and any entries covered by this new shipper review will be assessed at the PRC-wide rate.

Cash Deposit Requirements

Effective upon publication of the final rescission of the new shipper review of Changxing, the Department will instruct U.S. Customs and Border Protection to discontinue the option of posting a bond or security in lieu of a cash deposit for entries of subject merchandise from Changxing.³ Because we did not calculate a dumping margin for Changxing or grant Changxing a separate rate in this new shipper review, we find that Changxing continues to be part of the PRC-wide entity. The cash deposit rate for the PRC-wide entity is 92.84 percent. These cash deposit requirements shall remain in effect until further notice.

³ See section 751(a)(2)(B)(iii) of the Act ; see also 19 CFR 351.214(e).

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

In accordance with 19 CFR 351.305(a)(3), this notice also serves as a final reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

This new shipper review and notice are in accordance with sections 751(a)(2)(B) and 777(i) of the Act and 19 CFR 351.214(f)(3).

Dated: February 8, 2016.
Paul Piquado,
Assistant Secretary for Enforcement and Compliance.

[FR Doc. 2016-03261 Filed 2-16-16; 8:45 am]

BILLING CODE 3510-DS-P